NATIONAL ARCHIVES AND RECORDS ADMINISTRATION

Renewal of Advisory Committee on Electronic Records Archives

This notice is published in accordance with the provisions of section 9(a)(2) of the Federal Advisory Committee Act (Pub. L. 92-463, 5 U.S.C., App.) and advises of the renewal of the National Archives and Records Administration's (NARA) Advisory Committee on Electronic Records Archives. In accordance with Office of Management and Budget (OMB) Circular A-135, OMB approved the inclusion of the Advisory Committee on Electronic Records Archives in NARA's ceiling of discretionary advisory committees.

NARA has determined that the renewal of the Advisory Committee on Electronic Records Archives is in the public interest due to the expertise and valuable advice the Committee members provide on technical, mission, and service issues related to the Electronic Records Archives (ERA). NARA will use the Committee's recommendations on issues related to the development, implementation, and use of the ERA system. NARA's Committee Management Officer is Mary Ann Hadyka. She can be reached at 301-837-1782.

Dated: August 21, 2007.
Mary Ann Hadyka,
Committee Management Officer.

[FR Doc. E7-16991 Filed 8-27-07; 8:45 am]

BILLING CODE 7515-01-P